DEPARTMENT OF COMMERCE

International Trade Administration

[C-533-821]

Certain Hot-Rolled Carbon Steel Flat Products From India: Amended Final Results of Countervailing Duty Administrative Review Pursuant to Court Decision

AGENCY: Import Administration, International Trade Administration, Department of Commerce.

SUMMARY: On September 13, 2010, the United States Court of International Trade (CIT) sustained the Department of Commerce's (the Department's) redetermination pursuant to the CIT's remand in United States Steel Corporation, et al. v. United States et al. and Essar Steel Limited v. United States. See United States Steel Corporation, et al. v. United States et al. and Essar Steel Limited v. United States et al., Slip Op. 10-104 (Essar); see also Final Results of Redetermination Pursuant to Court Remand, dated July 15, 2010 (found at http://ia.ita.doc.gov/remands). On November 9, 2010, Essar Steel Limited (Essar) appealed the CIT's decision. See United States Steel Corporation, et al. v. United States et al. and Essar Steel Limited v. United States et al., Consol. Court No. 08-0239 Appeal (November 9, 2010). On July 7, 2011, the United States Court of Appeals for the Federal Circuit (CAFC) sustained the Department's redetermination. See United States Steel Corporation, et al. v. United States et al. and Essar Steel Limited v. United States et al., CAFC 11-1074 Affirmed, Rule 36 (July 7, 2011).

The Department is amending the final results of the administrative review of the countervailing duty order on certain hot-rolled carbon steel flat products (HRCS) from India covering the January 1, 2006, through December 31, 2006, period of review (2006 POR) with respect to Essar, to reflect the CIT's decision in Essar. See Certain Hot-Rolled Carbon Steel Flat Products from India: Final Results of Countervailing Duty Administrative Review, 73 FR 40295 (July 14, 2008) (Final Results), and accompanying Issues and Decision Memorandum (I&D Memorandum).

DATES: Effective Date: October 21, 2011.

FOR FURTHER INFORMATION CONTACT: Gayle Longest, AD/CVD Operations, Office 3, Import Administration, International Trade Administration, U.S. Department of Commerce, 14th Street and Constitution Avenue, NW., Washington, DC 20230; telephone (202) 482-3338.

Background

On July 14, 2008, the Department published its final results in the countervailing duty administrative review of HRCS from India covering the 2006 POR. See Final Results. Following publication of the Final Results, respondent Essar, filed a lawsuit with the CIT challenging the Department's Final Results. See Essar. At issue in the litigation was the Department's calculation of the government price for iron ore lumps and fines as well as Essar's purchases of lumps and fines with respect to the program “Sale of High-Grade Iron Ore for less Than Adequate Remuneration.” See Final Results, and accompanying I&D Memorandum at “Sale of High-Grade Iron Ore for Less Than Adequate Remuneration” section and Comment 4.

After a court ordered remand, the Department issued its final results of redetermination on July 15, 2010. See Final Results of Redetermination Pursuant to Court Remand, dated July 15, 2010 (found at http://ia.ita.doc.gov/remands); and Essar. In its remand redetermination, the Department made redeterminations with respect to the calculation of the government price for iron ore lumps and fines as well as Essar's purchase of iron ore lumps and high-grade iron ore fines from the National Mineral Development Corporation (NMDC). Specifically, we adjusted our iron ore calculations to measure the adequacy of remuneration of sales of lumps and fines by the Government of India (GOI) to Essar to include the Central Sales Tax for Essar's purchase of iron ore lumps and high-grade iron ore fines from the NMDC and to include import duties payable on iron ore with regard to the corresponding benchmark prices. Then, we corrected the government price for iron ore lumps and fines to address erroneous freight calculations for Essar's purchases of iron ore from NMDC. Lastly, for fines purchases from NMDC made on or after the date the slurry pipeline became operational, we replaced the per metric ton (MT) rail cost with the per MT slurry transportation costs. See Certain Hot-Rolled Carbon Steel Flat Products From India: Notice of Court Decision Not in Harmony with Final Results of Administrative Review, 75 FR 59689 (September 28, 2010). The Department's redetermination resulted in changes to the Final Results for Essar's net subsidy rate concerning the sale of iron ore for less than adequate remuneration program from 13.21 percent to 19.35 percent. Therefore, Essar's total net countervailable subsidy rate from the Final Results, 17.50 percent, increased by 6.14 percentage points, to a total net countervailable subsidy rate of 23.64 percent. Id.

Amended Final Results

Because there is now a final court decision, the total net countervailable subsidy for Essar for the period January 1, 2006, through December 31, 2006, is 23.64 percent. Because the cash deposit rate of 22.19 percent, which was determined for Essar in the amended final results of the administrative review covering the period January 1, 2007, through December 31, 2007 (2007 POR) supersedes the cash deposit rate for the 2006 POR, there is no change in Essar's cash deposit rate. See Certain Hot-Rolled Carbon Steel Flat Products From India: Notice of Court Decision not in Harmony with Final Results of Administrative Review and Notice of Amended final Results of Administrative Review Pursuant to Court Decision, 76 FR 7820 (February 11, 2011). The Department will instruct U.S. Customs and Border Protection (CBP) to continue to collect cash deposits for Essar at the current rate of 22.19 percent.

Assessment of Duties

In accordance with the CIT's order, CBP shall assess countervailing duties on all appropriate entries covered by these amended final results. The Department intends to issue liquidation instructions to CBP 15 days after publication of these amended final results in the Federal Register.

Notification

We are issuing and publishing these amended final results of administrative review in accordance with sections 751(a)(1) and 777(i) of the Tariff Act of 1930, as amended.

Dated: October 17, 2011.
Ronald K. Lorentzen,
Deputy Assistant Secretary for Import Administration.

[FR Doc. 2011-27292 Filed 10-20-11; 8:45 am]

BILLING CODE 3510-DS-P